DEPARTMENT OF COMMERCE

National Oceanic and Atmospheric Administration

RIN 0648-XJ40

Endangered Species; File No. 13543

AGENCY: National Marine Fisheries Service (NMFS), National Oceanic and Atmospheric Administration (NOAA), Commerce.

ACTION: Notice; receipt of application for a permit modification.

SUMMARY: Notice is hereby given that South Carolina Department of Natural Resources, 217 Ft. Johnson Rd., Charleston, SC 29412, has requested a modification to scientific research Permit No. 13543.

DATES: Written, telefaxed, or email comments must be received on or before February 19, 2013.

ADDRESSES: The modification request and related documents are available for review by selecting “Records Open for Public Comment” from the Features box on the Applications and Permits for Protected Species (APPS) home page, https://apps.nmfs.noaa.gov/, and then selecting File No. 13543 from the list of available applications. These documents are also available upon written request or by appointment in the following offices:

Permits and Conservation Division, Office of Protected Resources, NMFS, 1315 East-West Highway, Room 13705, Silver Spring, MD 20910; phone (301) 427-8401; fax (301) 713-0376; and Southeast Region, NMFS, 263 13th Ave South, St. Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Kristy Beard, (301) 427-8401.

SUPPLEMENTARY INFORMATION: The subject modification to Permit No. 13543, issued on May 6, 2009 (74 FR 20926) is requested under the authority of the Endangered Species Act of 1973, as amended (16 U.S.C. 1531 et seq.) and the regulations governing the taking, importing, and exporting of endangered and threatened species (50 CFR 222-226).

Permit No. 13543 authorizes the permit holder to handle, measure, weigh, passive integrated transponder tag, flipper tag, and photograph loggerhead (Caretta caretta), green (Chelonia mydas), Kemp's ridley (Lepidochelys kempii), leatherback (Dermochelys coriacea), olive ridley (L. olivacea), and hawksbill (Eretmochelys imbricata) sea turtles that have already been captured by authorized coastal trawl surveys in waters off of North Carolina to Florida. The purpose of the research is to further the understanding of the growth, distribution, and life history of sea turtles. The permit is valid through April 30, 2014. The permit holder requests authorization to increase the annual take limit for Kemp's ridley and loggerhead sea turtles from 15 to 32 animals and 45 to 50 animals, respectively, on which they may conduct authorized research procedures. The increase would accommodate recent increases in capture rates of these species in the trawl surveys. Unless additional take is authorized, opportunities will be lost to collect valuable data on Kemp's ridley and loggerhead sea turtles.

P. Michael Payne,
Chief, Permits and Conservation Division, Office of Protected Resources, National Marine Fisheries Service.

[FR Doc. 2013-00889 Filed 1-16-13; 8:45 am]

BILLING CODE 3510-22-P